DEPARTMENT OF HOMELAND SECURITY

Coast Guard

33 CFR Part 117

[Docket No. USCG-2023-0183]

RIN 1625-AA09

Drawbridge Operation Regulation; River Rouge, Detroit, MI; Correction

AGENCY: Coast Guard, Department of Homeland Security (DHS).

ACTION: Correcting amendment.

SUMMARY: The Coast Guard is correcting regulations that published in the Federal Register on December 28, 2023. The final rule announced changes to the operations of all movable bridges over the River Rouge, Detroit, MI, to improve communications and establish winter hours. This correction fixes incorrect language in the regulations. The language in the final rule inadvertently stated the draw of the Dix Avenue Bridge, mile 2.73, is remotely operated, when it is not equipped or authorized to operate remotely.

DATES: This correcting amendment is effective February 29, 2024.

FOR FURTHER INFORMATION CONTACT: If you have questions on this correcting amendment, call or email Mr. Lee D. Soule, Bridge Management Specialist, Ninth Coast Guard District; telephone 216-902-6085, email Lee.D.Soule@uscg.mil.

SUPPLEMENTARY INFORMATION: In FR Doc. 2023-28645, appearing on page 89574 in the Federal Register of December 28, 2023, the final rule inadvertently identified in paragraph (h) that the bridge is remotely operated. The Coast Guard did not intend to include this text in § 117.645(h). Therefore, we are correcting paragraph (h) by removing the words “is remotely operated”.

List of Subjects in 33 CFR Part 117

Bridges.

For the reasons discussed in the preamble, the Coast Guard corrects 33 CFR part 117 by making the following correcting amendment:

PART 117—DRAWBRIDGE OPERATION REGULATIONS

1. The authority citation for part 117 continues to read as follows:

Authority: 33 U.S.C. 499; 33 CFR 1.05-1; and DHS Delegation No. 00170.1, Revision No. 01.3.

2. Amend § 117.645 by revising paragraph (h) to read as follows:

§ 117.645 River Rouge.

* * * * *

(h) The draw of the Dix Avenue Bridge, mile 2.73, is required to operate a radiotelephone, and shall open on signal except from January 1 through March 31 when the bridge shall open on signal if provided a 12-hour advance notice.

Jonathan Hickey,
Rear Admiral, U.S. Coast Guard, Commander, Ninth Coast Guard District.

[FR Doc. 2024-04273 Filed 2-28-24; 8:45 am]

BILLING CODE 9110-04-P